DEPARTMENT OF TRANSPORTATION

Federal Aviation Administration

Notice of Intent To Rule on Request To Release Airport Property at Muskogee-Davis Field Municipal Airport, Muskogee, OK

AGENCY: Federal Aviation Administration (FAA), DOT.

ACTION: Notice of request to release airport property.

SUMMARY: The FAA proposes to rule and invites public comment on the release of land at Muskogee-Davis Field Municipal Airport under the provisions of Title 49 United States Code, section 47153.

DATES: Comments must be received on or before November 1, 2007.

ADDRESSES: Comments on this application may be mailed or delivered to the FAA at the following address: Mr. Edward N. Agnew, Manager, Federal Aviation Administration, Southwest Region, Airports Division, Arkansas/Oklahoma Airports Development Office, ASW-630, Fort Worth, Texas 76193-0630.

In addition, one copy of any comments submitted to the FAA must be mailed or delivered to Mr. Michael Stewart, Director of Public Works, City of Muskogee, at the following address: 301 South Cherokee, Muskogee, OK 74403.

FOR FURTHER INFORMATION CONTACT: Ms. Lana Logan, Program Manager, Federal Aviation Administration, Arkansas/Oklahoma Airports Development Office, ASW-630F, 2601 Meacham Boulevard, Fort Worth, Texas 76137-4298.

The request to release property may be reviewed in person at this same location.

SUPPLEMENTARY INFORMATION: THE FAA invites public comment on the request to 58.55 acres of property at the Muskogee-Davis Field Municipal Airport under the provisions of the Act.

On September 24, 2007, FAA determined that the request to release property at Muskogee-Davis Field Municipal Airport submitted by the city of Muskogee met the procedural requirements of the Federal Aviation Regulations, Part 155. The FAA may approve the request, in whole or in part, no later than November 1, 2007.

The following is a brief overview of the request:

The City of Muskogee requests the release of 58.55 acres of airport property on the west side of the airport. The release of property will permit the Oklahoma Military Department to develop a new Armed Forces Reserve Center on the parcel. The appraised Value of the 58.33 acres of property was determined to be $205,000 based on appraisal. The Oklahoma Military Department has agreed to transfer ownership of their present Armory which is presently located on airport property. The existing Armory facility has been valued at $550,000 based on appraisal.

Any person may inspect the request in person at the FAA office listed above under FOR FURTHER INFORMATION CONTACT.

In addition, any person may, upon request, inspect the application, notice and other documents germane to the application in person at the City of Muskogee, Department of Public Works.

Issued in Forth Worth, Texas, on September 24, 2007.
Joseph G. Washington,
Acting Manager, Airports Division.

[FR Doc. 07-5002 Filed 10-10-07; 8:45 am]

BILLING CODE 4910-13-M